DEPARTMENT OF ENERGY

Office of Fossil Energy; National Coal Council

AGENCY: Department of Energy.

ACTION: Notice of open meeting.

SUMMARY: This notice announces a meeting of the National Coal Council Coal Policy Committee. The purpose of the meeting is to discuss the draft report requested by Secretary Bodman on June 26, 2006. The purpose of this report is to examine technologies available to avoid, or capture and store carbon dioxide emissions, especially those from coal-based electric utilities. Federal Advisory Committee Act (Public Law 92-463, 86 Stat. 770) requires notice of these meetings be announced in the Federal Register.

DATES: Wednesday, May 2, 2007, 1 p.m. to 3 p.m.

ADDRESSES: Hilton St. Louis, Market Street Room (Main Floor), One South Broadway, St. Louis, MO 63102.

FOR FURTHER INFORMATION CONTACT: Mr. Robert Kane, Phone: (202) 586-4753, U.S. Department of Energy, Office of Fossil Energy, Washington, DC 20585.

SUPPLEMENTARY INFORMATION: Purpose of the Committee: The purpose of the National Coal Council is to provide advice, information, and recommendations to the Secretary of Energy on matters relating to coal and coal industry issues:

Public Participation: The meeting is open to the public. The Chair of the NCC will conduct the meeting to facility orderly business. If you would like to file a written statement with the Committee, you may do so either before or after the meeting. If you would like to make oral statements regarding any of the items on the agenda, you should contact Mr. Robert Kane at the address and telephone number listed above. You must make your request for an oral statement at least five business days prior to the meeting, and reasonable provisions will be made to include the presentation on the agenda. Public comment will follow the 10 minute rule. This notice is being published less than 15 days before the date of the meeting because the meeting location has just been finalized.

Minutes: The minutes will be available for public review and copying within 30 days at the Freedom of Information Public Reading Room, 1E-190, Forrestal Building, 1000 Independence Avenue, SW., Washington, DC, between 9 a.m. and 4 p.m., Monday through Friday, except Federal holidays.

Issued in Washington, DC on April 20, 2007.
Rachel M. Samuel,
Deputy Advisory Committee Management Officer.

[FR Doc. E7-7856 Filed 4-24-07; 8:45 am]

BILLING CODE 6450-01-P